DEPARTMENT OF LABOR

Employment and Training Administration

Notice of Determinations Regarding Eligibility to Apply for Worker Adjustment Assistance and Alternative Trade Adjustment Assistance

In accordance with section 223 of the Trade Act of 1974, as amended (19 U.S.C. 2273) the Department of Labor herein presents summaries of determinations regarding eligibility to apply for trade adjustment assistance for workers (TA-W) number and alternative trade adjustment assistance (ATAA) by (TA-W) number issued during the period of June 25 through July 6, 2007.

In order for an affirmative determination to be made for workers of a primary firm and a certification issued regarding eligibility to apply for worker adjustment assistance, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss of business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of section 222(a)(2)(A) (increased imports) of the Trade Act have been met.

TA-W-61,590; Stover Industries, Inc., Point Pleasant, WV: May 25, 2006.

The following certifications have been issued. The requirements of section 222(a)(2)(B) (shift in production) of the Trade Act have been met.

TA-W-61,560; Meritor Heavy Vehicle Systems LLC, Commercial Vehicle Systems Division, Heath, OH: May 15, 2006.

The following certifications have been issued. The requirements of section 222(b) (supplier to a firm whose workers are certified eligible to apply for TAA) of the Trade Act have been met.

None.

The following certifications have been issued. The requirements of section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-61,651; Springs Global US, Inc., Sardis Plant, On-Site Leased Workers From Diverso Integated, Sardis, MS: February 17, 2007.

TA-W-61,655; Westell, Inc., Aurora, IL: June 7, 2006.

TA-W-61,679; Hartmann Conco, Inc., Rock Hill, SC: May 27, 2007.

TA-W-61,685; Ford Motor Company, Cleveland Casting, Powertrain Division, Brook Park, OH: June 13, 2006.

TA-W-61,691; Toshiba America Consumer Products, LLC, Manufacturing Division, On-Site Lased Workers from Holland Employment, Lebanon, TN: March 19, 2007.

TA-W-61,695; Standard Forged Products, LLC, Axle Forging Division, A Subsidiary of Trinity Industries, Johnstown, PA: June 8, 2006.

TA-W-61,732; Henry S Wolkins Company, Taunton, MA: June 21, 2006.

TA-W-61,533; Seaside, Inc., Warren, ME: May 10, 2006.

TA-W-61,546; Sportable Scoreboards, Inc., Murray, KY: May 18, 2006.

TA-W-61,548; CS Tool Engineering, Cedar Springs, MI: May 18, 2006.

TA-W-61,557; Alcoa Auto and Truck Structures, Auburn, IN: June 2, 2007.

TA-W-61,561; R-Tis-Tic Molds, Inc., St. Clair, MI: May 16, 2006.

TA-W-61,580; Comau, Inc., A Subsidiary of Comau, S.P.A., Southfield, MI: May 24, 2006.

TA-W-61,602; EGS Electrical Group, Lexington, OH: May 30, 2006.

TA-W-61,607; Kirk Lumber Company, Suffolk, VA: May 30, 2006.

TA-W-61,631; Interconnect Technologies, Division of Litton Systems, Inc., Springfield, MO: June 1, 2006.

TA-W-61,646; Gip's Manufacturing Co., Hartwell, GA: June 7, 2006.

The following certifications have been issued. The requirements of section 222(a)(2)(B) (shift in production) and section 246(a)(3)(A)(ii) of the Trade Act have been met.

TA-W-61,288; Honeywell International, Environmental and Combustion Controls, ECC, Golden Valley, MN: April 10, 2006.

TA-W-61,441; Reitter and Schefenacker USA LP, Lighting Division, On-Site Leased Workers of Kelly Services and Hamilton-Ryker, Selmer, TN: April 2, 2006.

TA-W-61,494; Vanity Fair Brands LP, Cutting Department, Monroeville, AL: May 7, 2006.

TA-W-61,494A; Vanity Fair Brands LP, Dyeing & Finishing Department, Monroeville, AL: May 7, 2006.

TA-W-61,494B; Vanity Fair Brands, Distribution, Monroeville, AL: May 7, 2006.

TA-W-61,494C; Vanity Fair Brands, Administration, Monroeville, AL: May 7, 2006.

TA-W-61,569; Dura Automotive Systems, Inc., Control Systems Division, Milan, TN: May 11, 2006.

TA-W-61,604; Bendix Commercial Vehicle Systems, LLC, Air Compressor Line, Frankfort, KY: May 31, 2006.

TA-W-61,632; Lear Idea Center, Seating Systems Division, Madison, MI: May 29, 2006.

TA-W-61,648; Energy Conversion Systems Holding LLC, On-Site Leased Workers of MM Temps, Inc., Kane, PA: June 7, 2006.

TA-W-61,657; Cardone Industries, Plant 17, Philadelphia, PA: June 1, 2006.

TA-W-61,680; Deerfield Specialty Papers, Inc., Augusta, GA: June 13, 2006.

TA-W-61,686; Cummins Filtration, Inc., A Subsidiary of Cummins, On-Site Workers from Manpower, Mau, Augusta, Waynesboro, GA: June 14, 2006.

TA-W-61,697; Gildan Activewear Malone, Inc., Bombay, NY: June 6, 2006.

TA-W-61,713; YKK Snap Fasteners America, Inc., Centerville, TN: June 8, 2006.

TA-W-61,582; Xyratex International, Inc., On-Site Leased Workers of R&D Technical Services, Scotts Valley, CA: May 23, 2006.

TA-W-61,593; Teradyne, Inc., Agoura, CA: May 29, 2006.

TA-W-61,650; Mount Vernon Mills, Inc., McCormick Division, McCormick, SC: July 13, 2007.

TA-W-61,658; NSI International, Inc., Farmingdale, NY: June 6, 2006.

The following certifications have been issued. The requirements of section 222(b) (supplier to a firm whose workers are certified eligible to apply for TAA) and section 246(a)(3)(A)(ii) of the Trade Act have been met.

TA-W-61,442; Connor Manufacturing Services, Portland, OR: May 3, 2006.

TA-W-61,566; BorgWarner Diversified Transmission Products, Inc., TTS Division, Muncie, IN: May 22, 2006.

TA-W-61,611; Danice Manufacturing, South Lyon, MI: May 23, 2006.

TA-W-61,661; Collins and Aikman, Plastics Division, Athens, TN: June 8, 2006.

TA-W-61,716; Clayton Marcus Company, Inc., Plant #9, A Subsidiary of LA-Z-Boy, Inc., Hickory, NC: February 26, 2007.

TA-W-61,719; VCST Machined Products LLC, A Subsidiary of VCST Powertrain Components, Clinton Township, MI: June 12, 2006.

TA-W-61,766; Comtec Manufacturing, Inc., On-Site Leased Workers from Spherion of DuBois, St. Mary's, ME: June 28, 2006.

The following certifications have been issued. The requirements of section 222(b) (downstream producer for a firm whose workers are certified eligible to apply for TAA based on increased imports from or a shift in production to Mexico or Canada) and section 246(a)(3)(A)(ii) of the Trade Act have been met.

None.

Negative Determinations for Alternative Trade Adjustment Assistance

In the following cases, it has been determined that the requirements of 246(a)(3)(A)(ii) have not been met for the reasons specified.

The Department has determined that criterion (1) of section 246 has not been met. The firm does not have a significant number of workers 50 years of age or older.

TA-W-61,590; Stover Industries, Inc., Point Pleasant, WV.

The Department has determined that criterion (2) of section 246 has not been met. Workers at the firm possess skills that are easily transferable.

TA-W-61,560; Meritor Heavy Vehicle Systems LLC, Commercial Vehicle Systems Division, Heath, OH.

The Department has determined that criterion (3) of section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-61,508; Victor Products, Division Dana Corporation, Robinson, IL.

TA-W-61,535; Paslin Company, Warren, MI.

TA-W-61,572; Meggitt Defense Systems Caswell, Minneapolis, MN.

TA-W-61,573; MTD Southwest, Inc., Chandler, AZ.

TA-W-61,604A; Bendix Commercial Vehicle Systems, LLC, Air Disc Brakes Line, Frankfort, KY.

TA-W-61,653; Aviza Technology, Scotts Valley, CA.

The investigation revealed that criteria (a)(2)(A)(I.B.) (Sales or production, or both, did not decline) and (a)(2)(B)(II.B.) (shift in production to a foreign country) have not been met.

TA-W-61,619; Amkor Technology, NC A5 Factory, Norrisville, NC.

TA-W-61619A; Amkor Technology, NC A5 Factory, Morrisville, NC.

TA-W-61,674; EGS Electrical Group, Sola/Hevi Duty Division, Celina, TN.

TA-W-61,681; Shakespeare Composite Structures, Newberry, SC.

TA-W-61,692; Sirenza Microdevices, Inc., Broomfield, CO.

The investigation revealed that criteria (a)(2)(A)(I.C.) (increased imports) and (a)(2)(B)(II.B.) (shift in production to a foreign country) have not been met.

TA-W-60,985; Collins and Aikman, Havre de Grace, MD.

TA-W-61,370; Federal Mogul Corporation, Dumas, AR.

TA-W-61,541; South Indiana Lumber Co., Inc., Liberty, KY.

TA-W-61,551; Tech-Pak, Inc., Hudson, NC.

TA-W-61,552; The Hershey Company, Oakdale Plant, Oakdale, CA.

TA-W-61,596; Lancaster Preferred Partners, Lancaster, PA.

TA-W-61,599; Patrick Industries, Inc., Door Division, Woodburn, OR.

TA-W-61,642; Hutchinson Technology, Inc., Hutchinson, MN.

TA-W-61,701; Hoosier Magnetics, Inc., Indiana Plant, Washington, IN.

TA-W-61,721; Oregon Cutting Systems Group, A Wholly Owned Subsidiary of Blount, Inc., Clackamas, OR.

TA-W-61,526; Henkel Corporation, Henkel Technologies Division, On-Site Lease Workers of Staffing Plus, Olean, NY.

TA-W-61,609; Eagle Ottawa Newaygo Farms, Inc., Walkersville, MI.

TA-W-61,660; Multi-Fineline Electronix, Inc., Anaheim, CA.

The workers' firm does not produce an article as required for certification under section 222 of the Trade Act of 1974.

TA-W-61,147; Eastman Kodak Co., Consumer Digital Imaging—Adanced Development Div., Rochester, NY.

TA-W-61,344; Three-I Industries, Workers Performing Inspection and Warehousing for Auto, Monroe, LA.

TA-W-61,654; Nortel Networks Corp., Global Services, Richardson, TX.

TA-W-61,711; Amerock, Distribution Center, Rockford, IL.

The investigation revealed that criteria of section 222(b)(2) has not been met. The workers' firm (or subdivision) is not a supplier to or a downstream producer for a firm whose workers were certified eligible to apply for TAA.

TA-W-61,559; Thunder Bay Manufacturing Corp., Alpena, MI.

I hereby certify that the aforementioned determinations were issued during the period of June 25 through July 6, 2007. Copies of these determinations are available for inspection in Room C-5311, U.S. Department of Labor, 200 Constitution Avenue, NW., Washington, DC 20210 during normal business hours or will be mailed to persons who write to the above address.

Dated: July 12, 2007.
Ralph DiBattista,
Director, Division of Trade Adjustment Assistance.

[FR Doc. E7-13977 Filed 7-18-07; 8:45 am]

BILLING CODE 4510-FN-P